DEPARTMENT OF TRANSPORTATION

Federal Transit Administration

49 CFR Part 674

[FTA Docket No. FTA 2023-0008]

RIN 2132-AB42

State Safety Oversight

AGENCY: Federal Transit Administration (FTA), United States Department of Transportation (DOT).

ACTION: Notice of proposed rulemaking; extension of comment period.

SUMMARY: The Federal Transit Administration (FTA) is extending the comment period for the notice of proposed rulemaking regarding FTA's State Safety Oversight program, which was published on November 15, 2023, with the original comment period closing on January 16, 2024.

DATES: The comment period for the proposed rule published November 15, 2023, at 88 FR 78269, is extended. Comments are requested by February 15, 2024. Late-arriving comments will be considered to the extent practicable.

ADDRESSES: You may file comments identified by docket number FTA-2023-0008 by any of the following methods:

• Federal eRulemaking Portal: Go to https://www.regulations.gov and follow the online instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9 a.m. and 5 p.m. ET, Monday through Friday, except Federal holidays.

• Fax: (202) 493-2251.

Instructions: All submissions received must include the agency name and docket number or Regulatory Information Number (RIN) for this rulemaking. All comments received will be posted without change to https://www.regulations.gov, including any personal information provided. For detailed instructions on sending comments and additional information on the rulemaking process, see the “Public Participation” heading of the SUPPLEMENTARY INFORMATION section of this document.

Docket: To access the docket and read background documents or comments received, go to: https://www.regulations.gov. Background documents and comments received may also be viewed at the U.S. Department of Transportation, 1200 New Jersey Ave. SE, Docket Operations, M-30, West Building Ground Floor, Room W12-140, Washington, DC 20590-0001, between 9 a.m. and 5 p.m. EST, Monday through Friday, except Federal holidays.

FOR FURTHER INFORMATION CONTACT: For program matters, contact Loretta Bomgardner, Office of Transit Safety and Oversight, FTA, telephone (202) 577-5896 or loretta.bomgardner@dot.gov. For legal matters, contact Richard Wong, Office of the Chief Counsel, telephone (202) 366-4011 or richard.wong@dot.gov. Office hours are from 8:30 a.m. to 6 p.m., Monday through Friday, except Federal holidays.

SUPPLEMENTARY INFORMATION: In a letter submitted to the docket dated November 16, 2023, the American Public Transportation Association (APTA), on behalf of more than 1,300 member organizations, requested a 30-day extension of the comment period for the State Safety Oversight notice of proposed rulemaking (NPRM) published in the Federal Register on November 15, 2023 (88 FR 78269).

As justification for this extension, APTA cited two current rulemakings for which FTA is seeking comments, the Public Transportation Safety Certification Training NPRM (88 FR 73573) and the Hours of Service and Fatigue Risk Management ANPRM (88 FR 74107). APTA noted that transit agencies, State safety oversight agencies, and APTA are already reviewing and preparing comments, and replying to a third would be burdensome. In addition, APTA notes three Federal holidays between the time the NPRM was published and comments are due, and that many offices, including APTA, will be closed between Christmas and New Year's Day. APTA believes an extension of time would ensure that APTA and its members have the necessary time to produce a thoughtful response to the NPRM.

Given the importance of public transportation safety and the need for a more fulsome dialogue on FTA's safety priorities, FTA believes an extension of time is justified and is extending the comment period until February 15, 2024.

To ensure that comments are filed correctly, please follow the instructions in the ADDRESSES section above, including the docket number provided [FTA-2023-0008] in your comments.

Veronica Vanterpool,
Deputy Administrator.

[FR Doc. 2023-28155 Filed 12-20-23; 8:45 am]

BILLING CODE 4910-57-P